DEPARTMENT OF JUSTICE

Drug Enforcement Administration

[Docket No. DEA-392]

Manufacturer of Controlled Substances Registration: Noramco, Inc.

ACTION: Notice of registration.

SUMMARY: Noramco, Inc. applied to be registered as a manufacturer of certain basic classes of narcotic or non-narcotic controlled substances. The DEA grants Noramco, Inc. registration as a manufacturer of those controlled substances.

SUPPLEMENTARY INFORMATION: By notice dated December 23, 2013, and published in the Federal Register on January 8, 2014, 79 FR 1390, Noramco, Inc. (GA), 1440 Olympic Drive, Athens, Georgia 30601, applied to be registered as a manufacturer of certain basic classes of narcotic or non-narcotic controlled substances.

The Drug Enforcement Administration (DEA) has considered the factors in 21 U.S.C. 823(a) and determined that the registration of Noramco, Inc. to manufacture the basic classes of controlled substances is consistent with the public interest and with United States obligations under international treaties, conventions, or protocols in effect on May 1, 1971. The DEA investigated the company's maintenance of effective controls against diversion by inspecting and testing the company's physical security systems, verified the company's compliance with state and local laws, and reviewed the company's background and history.

Therefore, pursuant to 21 U.S.C. 823(a), and in accordance with 21 CFR 1301.33, the above-named company is granted registration as a bulk manufacturer of the basic classes of narcotic or non-narcotic controlled substances listed:

Controlled substance | Schedule
Gamma Hydroxybutyric Acid (2010) | I
Dihydromorphine (9145) | I
Morphine-N-oxide (9307) | I
Codeine-N-oxide (9053) | I
Amphetamine (1100) | II
Methylphenidate (1724) | II
Codeine (9050) | II
Dihydrocodeine (9120) | II
Oxycodone (9143) | II
Hydromorphone (9150) | II
Hydrocodone (9193) | II
Morphine (9300) | II
Oripavine (9330) | II
Thebaine (9333) | II
Opium tincture (9630) | II
Oxymorphone (9652) | II
Noroxymorphone (9668) | II
Alfentanil (9737) | II
Remifentanil (9739) | II
Sufentanil (9740) | II
Carfentanil (9743) | II
Tapentadol (9780) | II
Fentanyl (9801) | II

The company plans to manufacture the listed controlled substances in bulk for distribution to its customers.

No comments or objections have been received.

Dated: May 28, 2014.
Joseph T. Rannazzisi,
Deputy Assistant Administrator.

[FR Doc. 2014-12954 Filed 6-3-14; 8:45 am]

BILLING CODE 4410-09-P